DEPARTMENT OF THE INTERIOR

Bureau of Land Management

[LLMT922200-2017-L13100000-FI0000-P; NDM 106959 and NDM 106960]

Proposed Reinstatement of Terminated Oil and Gas Leases NDM 106959 and NDM 106960, North Dakota

AGENCY: Bureau of Land Management, Interior.

ACTION: Notice of proposed reinstatement.

SUMMARY: Per the Mineral Leasing Act of 1920, Bakken Production Inc., AGRI Properties LLP, and Southfork Oil LLC timely filed a petition for reinstatement of competitive oil and gas leases NDM 106959 and NDM 106960, Bottineau County, North Dakota. The lessees paid the required rentals accruing from the date of termination. No leases were issued that affect these lands. The BLM proposes to reinstate the leases.

FOR FURTHER INFORMATION CONTACT: Kimberly Werven, Chief, Fluids Adjudication Section, Bureau of Land Management Montana State Office, 5001 Southgate Drive, Billings, Montana 59101-4669, 406-896-5091, kwerven@blm.gov.

Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The lessees agree to new lease terms for rentals and royalties of $10 per acre, or fraction thereof, per year, and 16⅔ percent, respectively. The lessees paid the $500 administration fee for the reinstatement of the leases and the $159 cost for publishing this Notice.

The lessees met the requirements for reinstatement of the leases per Sec. 31(d) and (e) of the Mineral Leasing Act of 1920. We are proposing to reinstate the leases, effective the date of termination, subject to the:

• Original terms and conditions of the leases;

• Increased rental of $10 per acre;

• Increased royalty of 16⅔ percent; and

• $159 cost of publishing this Notice.

Authority: 30 U.S.C. 188.

Kimberly Werven,
Chief, Fluids Adjudication Section.

[FR Doc. 2017-20569 Filed 9-25-17; 8:45 am]

BILLING CODE 4310-DN-P